DEPARTMENT OF HEALTH AND HUMAN SERVICES

Centers for Medicare & Medicaid Services

Notice of Withdrawal: Second Publication of Reconsideration of Disapproval of Washington State Plan Amendment (SPA) 08-019

AGENCY: Centers for Medicare & Medicaid Services (CMS), HHS.

ACTION: Withdrawal Notice.

SUMMARY: This document withdraws the notice published on July 13, 2009 (74 FR 33449), which announced a hearing scheduled on August 4, 2009, to reconsider disapproval of Washington SPA 08-019. The July 13 notice is being withdrawn because it was an inadvertent republication of the same notice published on June 23, 2009 (74 FR 29703). This notice of withdrawal eliminates the duplication, by withdrawing the July 13 notice.

FOR FURTHER INFORMATION CONTACT: Benjamin Cohen, Presiding Officer, CMS, 2520 Lord Baltimore Drive, Suite L, Baltimore, Maryland 21244, Telephone: (410) 786-3169.

SUPPLEMENTARY INFORMATION: On June 23, 2009, we published a notice in the Federal Register (74 FR 29703), that announced the scheduling of an administrative hearing on August 4, 2009, to reconsider CMS' decision to disapprove Washington SPA 08-019. On July 13, 2009, the same notice was inadvertently republished in the Federal Register (74 FR 33449). This notice withdraws the July 13 notice, thereby eliminating the inadvertent duplication of the notice published on June 23.

Section 1116 of the Social Security Act (42 U.S.C. 1316; 42 CFR 430.18).

(Catalog of Federal Domestic Assistance Program No. 13.714, Medicaid Assistance Program.)

Dated: July 21, 2009.
Charlene Frizzera
Acting Administrator, Centers for Medicare & Medicaid Services.

[FR Doc. E9-17775 Filed 7-22-09; 11:15 am]

BILLING CODE 4120-01-P